ENVIRONMENTAL PROTECTION AGENCY

[EPA-HQ-OPPT-2017-0715; FRL-9977-48]

Certain New Chemical Substances; Receipt and Status Information for January 2018

AGENCY: Environmental Protection Agency (EPA).

ACTION: Notice.

SUMMARY: EPA is required under the Toxic Substances Control Act (TSCA), as amended by the Frank R. Lautenberg Chemical Safety for the 21st Century Act, to make information publicly available and to publish information in the Federal Register pertaining to submissions under TSCA Section 5, including notice of receipt of a Premanufacture notice (PMN), Significant New Use Notice (SNUN) or Microbial Commercial Activity Notice (MCAN), including an amended notice or test information; an exemption application under Biotech exemption; an application for a test marketing exemption (TME), both pending and/or concluded; a notice of commencement (NOC) of manufacture (including import) for new chemical substances; and a periodic status report on new chemical substances that are currently under EPA review or have recently concluded review. This document covers the period from January 1, 2018 to January 31, 2018.

DATES: Comments identified by the specific case number provided in this document must be received on or before June 25, 2018.

ADDRESSES: Submit your comments, identified by docket identification (ID) number EPA-HQ-OPPT-2017-0715, and the specific case number for the chemical substance related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW, Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT:

For technical information contact: Jim Rahai, Information Management Division (MC 7407M), Office of Pollution Prevention and Toxics, Environmental Protection Agency, 1200 Pennsylvania Ave. NW, Washington, DC 20460-0001; telephone number: (202) 564-8593; email address: rahai.jim@epa.gov.

For general information contact: The TSCA-Hotline, ABVI-Goodwill, 422 South Clinton Ave., Rochester, NY 14620; telephone number: (202) 554-1404; email address: TSCA-Hotline@epa.gov.

SUPPLEMENTARY INFORMATION:

I. Executive Summary

A. What action is the Agency taking?

This document provides the receipt and status reports for the period from January 1, 2018 to January 31, 2018. The Agency is providing notice of receipt of PMNs, SNUNs and MCANs (including amended notices and test information); an exemption application under 40 CFR part 725 (Biotech exemption); TMEs, both pending and/or concluded; NOCs to manufacture a new chemical substance; and a periodic status report on new chemical substances that are currently under EPA review or have recently concluded review.

EPA is also providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

B. What is the Agency's authority for taking this action?

Under the Toxic Substances Control Act (TSCA), 15 U.S.C. 2601 et seq., a chemical substance may be either an “existing” chemical substance or a “new” chemical substance. Any chemical substance that is not on EPA's TSCA Inventory of Chemical Substances (TSCA Inventory) is classified as a “new chemical substance,” while a chemical substance that is listed on the TSCA Inventory is classified as an “existing chemical substance.” (See TSCA section 3(11).) For more information about the TSCA Inventory go to: https://www.epa.gov/tsca-inventory.

Any person who intends to manufacture (including import) a new chemical substance for a non-exempt commercial purpose, or to manufacture or process a chemical substance in a non-exempt manner for a use that EPA has determined is a significant new use, is required by TSCA section 5 to provide EPA with a PMN, MCAN or SNUN, as appropriate, before initiating the activity. EPA will review the notice, make a risk determination on the chemical substance or significant new use, and take appropriate action as described in TSCA section 5(a)(3).

TSCA section 5(h)(1) authorizes EPA to allow persons, upon application and under appropriate restrictions, to manufacture or process a new chemical substance, or a chemical substance subject to a significant new use rule (SNUR) issued under TSCA section 5(a)(2), for “test marketing” purposes, upon a showing that the manufacture, processing, distribution in commerce, use, and disposal of the chemical will not present an unreasonable risk of injury to health or the environment. This is referred to as a test marketing exemption, or TME. For more information about the requirements applicable to a new chemical go to: http://www.epa.gov/oppt/newchems.

Under TSCA sections 5 and 8 and EPA regulations, EPA is required to publish in the Federal Register certain information, including notice of receipt of a PMN/SNUN/MCAN (including amended notices and test information); an exemption application under 40 CFR part 725 (biotech exemption); an application for a TME, both pending and concluded; NOCs to manufacture a new chemical substance; and a periodic status report on the new chemical substances that are currently under EPA review or have recently concluded review.

C. Does this action apply to me?

This action provides information that is directed to the public in general.

D. Does this action have any incremental economic impacts or paperwork burdens?

No.

E. What should I consider as I prepare my comments for EPA?

1. Submitting confidential business information (CBI). Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When preparing and submitting your comments, see the commenting tips at http://www.epa.gov/dockets/comments.html.

II. Status Reports

In the past, EPA has published individual notices reflecting the status of TSCA section 5 filings received, pending or concluded. In 1995, the Agency modified its approach and streamlined the information published in the Federal Register after providing notice of such changes to the public and an opportunity to comment (See the Federal Register of May 12, 1995, (60 FR 25798) (FRL-4942-7)). Since the passage of the Lautenberg amendments to TSCA in 2016, public interest in information on the status of section 5 cases under EPA review and, in particular, the final determination of such cases, has increased. In an effort to be responsive to the regulated community, the users of this information, and the general public, to comply with the requirements of TSCA, to conserve EPA resources and to streamline the process and make it more timely, EPA is providing information on its website about cases reviewed under the amended TSCA, including the section 5 PMN/SNUN/MCAN and exemption notices received, the date of receipt, the final EPA determination on the notice, and the effective date of EPA's determination for PMN/SNUN/MCAN notices on its website at: https://www.epa.gov/reviewing-new-chemicals-under-toxic-substances-control-act-tsca/status-pre-manufacture-notices. This information is updated on a weekly basis.

III. Receipt Reports

For the PMN/SNUN/MCANs received by EPA during this period, Table I provides the following information (to the extent that such information is not subject to a CBI claim) on the notices received by EPA during this period: The EPA case number assigned to the notice, a notation of whether the submission is an initial submission, or an amendment, a notation of which version was received, the date the notice was received by EPA, the submitting manufacturer (i.e., domestic producer or importer), the potential uses identified by the manufacturer in the notice, and the chemical substance identity.

As used in each of the tables in this unit, (S) indicates that the information in the table is the specific information provided by the submitter, and (G) indicates that this information in the table is generic information because the specific information provided by the submitter was claimed as CBI. Submissions which are initial submissions will not have a letter following the case number and the version column will note “Initial submission”. Submissions which are amendments to previous submissions will have a case number followed by the letter “A” (e.g., P-18-1234A). The version column designates submissions in sequence as “1”, “2”, “3”, etc. Note that in some cases, an initial submission is not numbered as version 1; this is because earlier version(s) were rejected as incomplete or invalid submissions. Note also that future versions of the following tables may adjust slightly as the Agency works to automate population of the data in the tables.

Table I—PMN/SNUN/MCANs Received From 1/2/2018 to 1/31/2018
Case No. | Version | Received date | Manufacturer | Use | Chemical substance
P-16-0404A | 3 | 1/22/2018 | CBI | (G) A colorant for dyeing various synthetic fibers and fabrics. Open, non-dispersive use | (G) Alkyl ester, 2-({4-[2-(trisubstituted phenyl)azo]-5-acetamido-2-substitutedphenyl} (substituted alkoxy)amino).
P-16-0405A | 6 | 1/25/2018 | CBI | (G) A colorant for dyeing various synthetic fibers and fabrics. Open, non-dispersive use | (G) Alkyl ester, 2-({5-acetamido-2-alkoxy-4-[2-(substituted-2,1-benzothiazol-3-yl)azo] pheny]}(disubstituted)amino).
P-16-0408A | 3 | 1/25/2018 | CBI | (G) A colorant for dyeing various synthetic fibers and fabrics. Open, non-dispersive use | (G) 3-Pyridinecarbonitrile, 1,2-dihydro-trisubstituted-5-[2-(disubstituted phenyl)azo]-2-oxo.
P-16-0421A | 3 | 1/17/2018 | Guardian Industries Corp | (S) Additive to facilitate melting of sand during manufacture of glass | (S) Flue dust, glass manufg. desulfurization.
P-17-0221A | 3 | 1/17/2018 | CBI | (G) Coating polymer | (G) Alkylheterocyclic amine blocked isocyanate, alkoxysilane polymer.
P-17-0281A | 6 | 1/12/2018 | CBI | (G) Water reducible resin | (G) Polysiloxane-polyester polyol carboxylate.
P-17-0282A | 6 | 1/12/2018 | Elantas PDG, Inc | (S) This is a component of a mixture that is used as an impregnating varnish for stators and motors | (S) Isocyanic acid, polymethylenepolyphenylene ester, caprolactam- and phenol-blocked.
P-17-0319A | 6 | 1/26/2018 | Inolex Chemical Company | (S) This material will be used an emollient for a fabric softener/conditioning product | (S) L-Isoleucine, C18-22-alkyl esters, ethanesulfonates.
P-17-0385A | 4 | 1/23/2018 | Al-Fares Corp | (S) Cleaning product for detailing vehicles. Industrial use emollient | (S) Carbonic acid, bis(2-ethylhexyl) ester.
P-17-0424A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 2-chloro-3-methyl-, sodium salt (1:1).
P-17-0425A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 3-chloro-2-methyl-, sodium salt (1:1).
P-17-0426A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 3-chloro-4-methyl-, sodium salt (1:1).
P-17-0427A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 2-chloro-5-methyl-, sodium salt (1:1).
P-17-0428A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 4-chloro-2-methyl-, sodium salt (1:1).
P-17-0429A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 3-fluoro-2-methyl-, sodium salt (1:1).
P-17-0430A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 3-fluoro-4-methyl-, sodium salt (1:1).
P-17-0431A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 4-fluoro-2-methyl-, sodium salt (1:1).
P-17-0432A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 2-fluoro-4-methyl-, sodium salt (1:1).
P-17-0433A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 2-fluoro-3-methyl-, sodium salt (1:1).
P-17-0434A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 2,3,6-trifluoro-, sodium salt (1:1).
P-17-0435A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 3-fluoro-2-(trifluoromethyl)-, sodium salt(1:1).
P-17-0436A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 2-fluoro-4-(trifluoromethyl)-, sodium salt (1:1).
P-17-0437A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 2-fluoro-6-(trifluoromethyl)-, sodium salt (1:1).
P-17-0438A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 3-fluoro-5-(trifluoromethyl)-, sodium salt (1:1).
P-17-0439A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 4-fluoro-3-(trifluoromethyl)-, sodium salt (1:1).
P-17-0440A | 2 | 1/4/2018 | Johnson Matthey Inc | (S) Tracer chemical: Used as a tracer in water solution to measure flow in deep oil or gas bearing strata; when in a solid blend with polymer to measure flow in deep oil or gas bearing strata; or in a solid proppant bead form used to measure flow in deep oil or gas bearing strata | (S) Benzoic acid, 4-fluoro-2-(trifluoromethyl)-, sodium salt (1:1).
P-18-0020A | 2 | 1/23/2018 | Myriant Corporation | (G) Industrial coating | (S) Butanediolic acid, polyol with 2-ethyl-2-(hydroxymethyl)-1,3-propanediol, 2,5-Furandione and 1,3-propanediol, 3a,4,5,6,7,7a-hexahydro-4,7-methano-1H-inden-5(or 6)-yl ester.
P-18-0036A | 3 | 1/24/2018 | CBI | (G) Water repellant | (S) Siloxanes and Silicones, di-Me, 3-[3-carboxy-2(or 3)-(octenyl)-1-oxopropoxy]propyl group-terminated.
P-18-0041A | 2 | 1/3/2018 | Myriant Corporation | (G) Intermediate polyol for further reaction | (S) 2,5-Furandione, polymer with 2-ethyl-2-(hydroxymethyl)-1,3-propanediol, 3a,4,5,6,7,7a-hexahydro-4,7-methano- 1H-inden-5(or 6)-yl ester, ester with 2,3-dihydroxypropyl neodecanoate.
P-18-0041A | 3 | 1/23/2018 | Myriant Corporation | (G) Intermediate polyol for further reaction | (S) 2,5-Furandione, polymer with 2-ethyl-2-(hydroxymethyl)-1,3-propanediol, 3a,4,5,6,7,7a-hexahydro-4,7-methano- 1H-inden-5(or 6)-yl ester, ester with 2,3-dihydroxypropyl neodecanoate.
P-18-0041A | 4 | 1/29/2018 | Myriant Corporation | (G) Intermediate polyol for further reaction | (S) 2,5-Furandione, polymer with 2-ethyl-2-(hydroxymethyl)-1,3-propanediol, 3a,4,5,6,7,7a-hexahydro-4,7-methano- 1H-inden-5(or 6)-yl ester, ester with 2,3-dihydroxypropyl neodecanoate.
P-18-0042A | 3 | 1/3/2018 | Myriant Corporation | (G) Industrial coating | (S) 2,5-Furandione, polymer with 2-ethyl-2-(hydroxymethyl)-1,3-propanediol, 3a,4,5,6,7,7a-hexahydro-4,7-methano-1H-inden-5(or 6)-yl ester, ester with 2,3-dihydroxypropyl neodecanoate, polymer with 5-isocyanato-1-(isocyanatomethyl)-1,3,3-trimethylcyclohexane, 2-hydroxyethyl acrylate- and 2-hydroxyethyl methacrylate-blocked.
P-18-0042A | 4 | 1/23/2018 | Myriant Corporation | (G) Industrial coating | (S) 2,5-Furandione, polymer with 2-ethyl-2-(hydroxymethyl)-1,3-propanediol, 3a,4,5,6,7,7a-hexahydro-4,7-methano-1H-inden-5(or 6)-yl ester, ester with 2,3-dihydroxypropyl neodecanoate, polymer with 5-isocyanato-1-(isocyanatomethyl)-1,3,3-trimethylcyclohexane, 2-hydroxyethyl acrylate- and 2-hydroxyethyl methacrylate-blocked.
P-18-0042A | 5 | 1/29/2018 | Myriant Corporation | (G) Industrial coating | (S) 2,5-Furandione, polymer with 2-ethyl-2-(hydroxymethyl)-1,3-propanediol, 3a,4,5,6,7,7a-hexahydro-4,7-methano-1H-inden-5(or 6)-yl ester, ester with 2,3-dihydroxypropyl neodecanoate, polymer with 5-isocyanato-1-(isocyanatomethyl)-1,3,3-trimethylcyclohexane, 2-hydroxyethyl acrylate- and 2-hydroxyethyl methacrylate-blocked.
P-18-0058A | 2 | 1/8/2018 | CBI | (S) Component of electroconductive low-noise grease for long-term lubrication of capped or sealed ball bearings | (S) Phosphonium, trihexyltetradecyl-, salt with 1,1,1-trifluoro-n-[(trifluoromethyl)sulfonyl]methanesulfonamide (1:1).
P-18-0070 | 3 | 1/4/2018 | Arrowstar, LLC | (G) Chemical intermediate for polyurethane industry | (G) Waste plastics, polyester, depolymd. with glycols, polymers with dicarboxylic acids.
P-18-0070A | 5 | 1/16/2018 | Arrowstar, LLC | (G) Chemical intermediate for polyurethane industry | (G) Waste plastics, polyester, depolymd. with glycols, polymers with dicarboxylic acids.
P-18-0082 | 2 | 1/12/2018 | Cytec Industries Inc | (S) Isolated intermediate used in the manufacture of a surface-active agent | (G) Aspartic acid, tallow modified diester.
P-18-0083 | 1 | 1/3/2018 | CBI | (G) Dispersant additive | (S) 2-propenoic acid, telomers with bu alc.-2-[(2-propen-1-yloxy)methyl]oxirane reaction products, sodium bisulfite and sodium 2-hydroxy-3-(2-propen-1-yloxy)-1-propanesulfonate (1:1), sodium salts, peroxydisulfuric acid ([(ho)s(o)2]2o2) sodium salt (1:2)-initiated.
P-18-0083A | 5 | 1/8/2018 | CBI | (G) Dispersant additive | (S) 2-propenoic acid, telomers with bu alc.-2-[(2-propen-1-yloxy)methyl]oxirane reaction products, sodium bisulfite and sodium 2-hydroxy-3-(2-propen-1-yloxy)-1-propanesulfonate (1:1), sodium salts, peroxydisulfuric acid ([(ho)s(o)2]2o2) sodium salt (1:2)-initiated.
P-18-0085 | 1 | 1/8/2018 | CBI | (G) Industrial use in oilfied | (G) Fatty acids reaction products with ethyleneamines and dialkyl ester.
P-18-0086 | 1 | 1/10/2018 | CBI | (S) Intermediate for a polyurethane catalyst | (G) Propanenitrile, polyalkylpolyamine.
P-18-0087 | 1 | 1/11/2018 | Genesee Polymers Corporation | (S) UV curing agent, silicone rubber cross linker | (S) 1-propanethiol, 3,3′-(1,1,3,3-tetramethyl-1,3-disiloxanediyl)bis-.
P-18-0087A | 2 | 1/22/2018 | Genesee Polymers Corporation | (S) UV curing agent, silicone rubber cross linker | (S) 1-propanethiol, 3,3′-(1,1,3,3-tetramethyl-1,3-disiloxanediyl)bis-.
P-18-0088 | 1 | 1/16/2018 | CBI | (G) Oil and gas production | (G) Di(substituted-1,3-trialkylammonium) dialkylammonium salt.
P-18-0090 | 1 | 1/17/2018 | Preschooltourinc | (S) Water reducing agent for use in concrete | (G) Alkenoic acid, alkyl-, polymer with alkenoic acid, ester with .alpha.-alkyl-.omega.-hydroxypoly(oxy-1,2-ethanediyl), salt.
P-18-0091 | 1 | 1/17/2018 | Resinate Materials Group, Inc | (S) Intermediate for use in the manufacture of polymers | (G) Vegetable oil, polymers with diethylene glycol- and polyol- and polyethylene glycol-depolymd. poly(ethylene terephthalate) waste plastics and arylcarboxylic acid anhydride.
P-18-0092 | 2 | 1/26/2018 | Shell chemical lp—martinez catalyst plant | (G) The TBPMI chemical is used as a catalyst, the catalyst is imported and used in the manufacture of monoethlyene glycol (MEG) | (S) Tri-butyl methyl phosphonium iodide.
P-18-0093 | 1 | 1/23/2018 | CBI | (G) Additive to plastics | (G) Pentacyclo[9.5.1.13,9.15,15.17,13]octasiloxane, 1,3,5,7,9,11,13,15-octakis (polyfluoroalkyl)-.
P-18-0093A | 2 | 1/24/2018 | CBI | (G) Additive to plastics | (G) Pentacyclo[9.5.1.13,9.15,15.17,13]octasiloxane, 1,3,5,7,9,11,13,15-octakis (polyfluoroalkyl)-.
P-18-0094 | 1 | 1/23/2018 | CBI | (G) Additive to plastics | (G) Pentacyclo[9.5.1.13,9.15,15.17,13]octasiloxanealkylsubstituted, 3,5,7,9,11,13,15-heptakis(polyfluoroalkyl)-.
P-18-0094A | 2 | 1/24/2018 | CBI | (G) Additive to plastics | (G) Pentacyclo[9.5.1.13,9.15,15.17,13]octasiloxanealkylsubstituted, 3,5,7,9,11,13,15-heptakis(polyfluoroalkyl)-.
P-18-0095 | 1 | 1/23/2018 | CBI | (G) Additive to plastics | (G) Pentacyclo[9.5.1.13,9.15,15.17,13]octasiloxanealkanol, 3,5,7,9,11,13,15-heptakis(polyfluoroalkyl)-, acetate.
P-18-0095A | 2 | 1/24/2018 | CBI | (G) Additive to plastics | (G) Pentacyclo[9.5.1.13,9.15,15.17,13]octasiloxanealkanol, 3,5,7,9,11,13,15-heptakis(polyfluoroalkyl)-, acetate.
P-18-0096 | 1 | 1/23/2018 | Allnex USA Inc | (G) UV cured coating resin | (G) Halosubstituted carbopolycycle, polymer with substituted carbomonocycles and oxybis[alkanol].
P-18-0096A | 2 | 1/24/2018 | Allnex USA Inc | (G) UV cured coating resin | (G) Halosubstituted carbopolycycle, polymer with substituted carbomonocycles and oxybis[alkanol].
P-18-0096A | 3 | 1/24/2018 | Allnex USA Inc | (G) UV cured coating resin | (G) Halosubstituted carbopolycycle, polymer with substituted carbomonocycles and oxybis[alkanol].
P-18-0097 | 1 | 1/24/2018 | MANE USA | (S) Maderal is a fragrance that will be added to consumer care products, personal care products, fine fragrances | (S) 1,3-dioxane, 2-(3,3-dimethyl-1-cyclohexen-1-yl)-2,5,5-trimethly-.
P-18-0098 | 1 | 1/24/2018 | Allnex USA Inc | (S) Dispersing additive for pigments | (G) Polyphosphoric acids, polymers with (alkoxyalkoxy)alkanol and substituted heteromonocycle.
P-18-0099 | 1 | 1/25/2018 | CBI | (G) Photoinitiator | (S) Methanone,1,1′-(diethylgermylene)bis(1-(4-methoxyphyenyl).
P-18-0100 | 1 | 1/26/2018 | Allnex USA Inc | (G) UV curable coating resin | (G) Substituted alkanoic acid polymer with alkylcarbonate, alkanediols and isocyanate substituted carbomonocycles, sodium salt, alkanoic acid-substituted polyol reaction products-blocked.
P-18-0101 | 3 | 1/30/2018 | CBI | (G) Industrial | (G) Pentaerythritol, mixed esters with linear and branched fatty acids.
P-18-0102 | 1 | 1/26/2018 | Allnex USA Inc | (G) UV curable coating Resin | (G) Alkanoic acid, ester with [oxybis(alkylene)]bis[alkyl-substituted alkanediol], polymer with alkylcarbonate, alkanediols, substituted alkanoic acid and isocyanate and alkyl substituted carbomonocycle, sodium salt.
J-18-0001A | 2 | 1/3/2018 | Zea 2, LLC | (S) For the production of L-alanine | (G) modified Corynebacterium glutamicum.

In Table II of this unit, EPA provides the following information (to the extent that such information is not subject to a CBI claim) on the TMEs received by EPA during this period: The EPA case number assigned to the TME, the submission document type (initial or amended), the version number, the date the TME was received by EPA, the submitting manufacturer (i.e., domestic producer or importer), the potential uses identified by the manufacturer in the TME, and the chemical substance identity.

Table II—TMEs and Biotech Exemptions Received From 1/2/2018 to 1/31/2018
Case No. | Version | Received date | Manufacturer | Use | Chemical substance
T-18-0002 | 2 | 1/30/2018 | CBI | (G) Industrial use | (G) Pentaerythritol, mixed esters with linear and branched fatty acids.

In Table III of this unit, EPA provides the following information (to the extent that such information is not claimed as CBI) on the NOCs received by EPA during this period: The EPA case number assigned to the NOC, the submission document type (initial or amended), the date the NOC was received by EPA, the date of commencement provided by the submitter in the NOC, a notation of the type of amendment (e.g., amendment to generic name, specific name, technical contact information, etc.) and chemical substance identity.

Table III—NOCs Received From 1/2/2018 to 1/31/2018
Case No. | Received date | Commencement date | If amendment, type of amendment | Chemical substance
P-10-0203 | 1/1/2018 | 7/1/2010 |  | (G) Hexanedioic acid, polymer with alkanediol, dimethyl carbonate, alkanediol, hydroxy-(hydroxyalkyl)-alkylpropanoic acid, 1,1′-methylenebis[4-isocyanatocyclohexane], substituted alkyl diamine and lactone, compd. with alkyl amine.
P-12-0124A | 1/5/2018 | 12/22/2017 | Specific Name | (G) Cyclohexanedicarboxylic acid, dialkyl ester.
P-13-0193 | 1/4/2018 | 4/16/2014 |  | (G) Poly[oxy(methyl-1,2-ethanediyl)], .alpha.-hydro-.omega.-[[[dialkyl-(morpholinyl)alkylidene]amino]alkylethoxy]-, ether with alkyl-(hydroxyalkyl)-alkanediol.
P-15-0738 | 1/19/2018 | 12/30/2017 |  | (S) Siloxanes and Silicones, di-Me, 3-(2-hydroxyphenyl)propyl group-terminated, polymers with 1,4-benzenedicarbonyl dichloride, bisphenol A and carbonic dichloride, 4-(1,1-dimethylethyl)phenyl esters.
P-16-0233 | 1/23/2018 | 1/17/2018 |  | (G) Benzoic acid, alkyl-2-hydroxyl-, branched and linear, monosodium salts Benzoic acid, 2-hydroxyalkyl-, branched and linear, monosodium salts.
P-16-0376A | 1/19/2018 | 12/6/2017 | Generic Name | (G) Substituted alkyl reaction products with modified 1-(1,1-dimethylethoxy)-4-ethenylbenzene-styrene polymer.
P-17-0175A | 1/8/2018 | 11/21/2017 | Generic Name | (G) Fluorinated acrylic copolymer.
P-17-0190 | 1/24/2018 | 1/3/2018 |  | (G) Butanoic acid, 3-oxo-, 2-[(2-methyl-1-oxo-2-propen-1-yl)oxy]ethyl ester, polymer with cycloalkyl 2-methyl-2-propenoate, ethenylbenzene, 2-ethylhexyl 2- propenoate, methyl 2-methyl-2-propenoate and 2-methylpropyl 2-methyl-2-propenoate.
P-17-0237 | 1/25/2018 | 1/10/2018 |  | (S) 1,6,10-Dodecatriene, 7,11-dimethyl-3-methylene-, (6E)-, homopolymer, hydrogenated, 2-hydroxyethyl-terminated.
P-17-0326 | 1/19/2018 | 1/16/2018 |  | (G) Allyloxymethylacrylate.
P-18-0026 | 1/8/2018 | 1/8/2018 |  | (S) Silsesquioxanes, 2,4,4-trimethylpentyl, hydroxy-terminated.
P-18-0032 | 1/12/2018 | 12/14/2017 |  | (G) Alkyl alkenoic acid, alkyl ester, polymer with alkyl alkenoate, dialkyl alkanediol, substituted carbomonocycle, disubstituted heteromonocycle, disubstituted heteropolycyclic, alkanediol, substituted alkyl alkyl alkenoate and substituted heteromonocycle, dialkyl peroxide initiated.

In Table IV of this unit, EPA provides the following information (to the extent such information is not subject to a CBI claim) on the test information received by EPA during this time period: The EPA case number assigned to the test information; the date the test information was received by EPA, the type of test information submitted, and chemical substance identity.

Table IV—Test Information Received From 1/1/2018 to 1/31/2018
Case No. | Received date | Type of test information | Chemical substance
J-18-0001 | 1/25/2018 | Document describing experiments validating cell inactivation methods. Includes narrative, data | (G) Modified Corynebacterium glutamicum.
P-14-0321 | 1/19/2018 | 2-week Whole-Body Inhalation toxicity study (OECD 412) | (S) 2-Chloro-1,1,1,2-Tetrafluoropropane(244bb).
P-16-0206 | 1/19/2018 | Water Solubility (OECD 105) | (G) Formaldehyde ketone condensate polymer.
P-16-0543 | 1/25/2018 | Air Quality monthly monitoring report | (G) Halogenophosphoric acid metal salt.
P-17-0005 | 1/4/2018 | (1) Test Plan for Inhalation Test (OECD 412) | (S) 1-Tetradecene homopolymer hydrogenated.
P-17-0302 | 1/25/2018 | (1) Read Across Justification (2) Mouse Lymphoma Assay (OECD 476). | (G) Neopentyl Glycol Ester of Mixed Linear and Branched Carboxylic Acids.
|  | (3) Chromosome Aberration Assay (OECD 473)
|  | (4) Pre-Natal Developmental Assay (OECD 414)
|  | (1) 90 Day Repeated Dose Assay (OECD 408)
P-17-0364 | 1/15/2018 | (1) Particle Size Distribution Surface Tension Study | (G) Dicyloalkyl-alkane-di-isocyanate homopolymer, alkyl alcohol and polyalkyl glycol mono-alkyl-ether-blocked.
P-17-0382 | 1/19/2018 | (1) Fish Juvenile Growth (OECD 215) (1) Daphia Reproduction Test (OECD 211). | (S) Amides, tallow, N,N-bis(2-hydroxypropyl).
P-18-0007 | 1/22/2018 | Local Lymph Node Assay (OECD 429) | (S) Glycerides, soya mono- and di-, epoxidized, acetates.
P-18-0076 | 1/5/2018 | (1) Test study in Male and Female Wistar Rats Oral Administration (Gavage) | (G) 1,3,5-Triazine-2,4-Diamine Derivative.

If you are interested in information that is not included in these tables, you may contact EPA's technical information contact or general information contact as described above to access additional non-CBI information that may be available.

Authority: 15 U.S.C. 2601 et seq.

Dated: May 4, 2018.
Pamela Myrick,
Director, Information Management Division, Office of Pollution Prevention and Toxics.

[FR Doc. 2018-11194 Filed 5-23-18; 8:45 am]

BILLING CODE 6560-50-P